DEPARTMENT OF AGRICULTURE

Grain Inspection, Packers and Stockyards Administration

7 CFR Part 810

RIN 0580-AA96

Request for Public Comment on the United States Standards for Soybeans

AGENCY: Grain Inspection, Packers and Stockyards Administration, USDA.

ACTION: Advance notice of proposed rulemaking; extension of comment period.

SUMMARY: We published an advance notice of proposed rulemaking in the Federal Register on May 1, 2007, (72 FR 23775), initiating a review of the United States Standards for Soybeans to determine their effectiveness and responsiveness to current grain industry needs. The notice provided an opportunity for interested parties to forward written comments to GIPSA until July 2, 2007. As a result of a request from the soybean industry, we are reopening the comment period to provide interested parties with additional time in which to comment.

DATES: We will consider comments that we receive by August 20, 2007.

ADDRESSES: We invite you to submit comments on this advance notice of proposed rulemaking. You may submit comments by any of the following methods:

• E-Mail: Send comments via electronic mail to comments.gipsa@usda.gov

• Mail: Send hardcopy written comments to Tess Butler, GIPSA, USDA, 1400 Independence Avenue, SW., Room 1647-S, Washington, DC 20250-3604

• Fax: Send comments by facsimile transmission to: (202) 690-2755

• Hand Delivery or Courier: Deliver comments to: Tess Butler, GIPSA, USDA, 1400 Independence Avenue, SW., Room 1647-S, Washington, DC 20250-3604.

• Federal eRulemaking Portal: Go to http://www.regulations.gov. Follow the online instructions for submitting comments.

• Instructions: All comments should make reference to the date and page number of this issue of the Federal Register.

• Read Comments: All comments will be available for public inspection in the above office during regular business hours (7 CFR 1.27(b)).

FOR FURTHER INFORMATION CONTACT: Marianne Plaus at GIPSA, USDA, 1400 Independence Avenue, SW., Washington, DC 20250-3630; Telephone (202) 720-0228; Fax Number (202) 720-1015; e-mail Marianne.Plaus@usda.gov.

SUPPLEMENTARY INFORMATION: GIPSA published an advance notice of proposed rulemaking in the Federal Register on May 1, 2007, (72 FR 23775) with the intent to obtain public comment on the United States Standards for Soybeans (7 CFR Part 810). Our intent is, through the comments, to determine their effectiveness and responsiveness to current grain industry needs. The comment period of 60 days from the date of publication closed on July 2, 2007. GIPSA received a request from the soybean industry to provide interested parties additional time to comment. As a result, the comment period is reopened for a 30 day period.

Authority: 7 U.S.C. 71-87.

Alan Christian,
Acting Administrator, Grain Inspection, Packers and Stockyards Administration.

[FR Doc. E7-14017 Filed 7-19-07; 8:45 am]

BILLING CODE 3410-KD-P